DEPARTMENT OF EDUCATION

34 CFR Chapter III

[CFDA Numbers: 84.133B-3, 84.133B-4, 84.133B-5, and 84.133B-6.]

Proposed Priorities—National Institute on Disability and Rehabilitation Research—Rehabilitation Research and Training Centers

AGENCY: Office of Special Education and Rehabilitative Services, Department of Education.

ACTION: Proposed priorities.

SUMMARY: The Assistant Secretary for Special Education and Rehabilitative Services proposes four priorities for the Rehabilitation Research and Training Center (RRTC) Program administered by the National Institute on Disability and Rehabilitation Research (NIDRR). Specifically, this notice proposes a priority for an RRTC on Community Living and Participation for Individuals with Physical Disabilities (priority 1), RRTC on Employment of Individuals with Physical Disabilities (priority 2), RRTC on Health and Function of Individuals with Intellectual and Developmental Disabilities (priority 3), and RRTC on Community Living and Participation for Individuals with Intellectual and Developmental Disabilities (priority 4). The Assistant Secretary may use one or more of these priorities for competitions in fiscal year (FY) 2013 and later years. We take this action to focus research attention on areas of national need. We intend the priorities to contribute to improved outcomes in these areas for individuals with disabilities.

DATES: We must receive your comments on or before March 14, 2013.

ADDRESSES: Address all comments about this notice to Marlene Spencer, U.S. Department of Education, 400 Maryland Avenue SW., room 5133, Potomac Center Plaza (PCP), Washington, DC 20202-2700.

If you prefer to send your comments by email, use the following address: marlene.spencer@ed.gov. You must include the phrase “Proposed Priorities for Combined RRTC Notice” in the subject line of your electronic message.

FOR FURTHER INFORMATION CONTACT: Marlene Spencer. Telephone: (202) 245-7532 or by email: marlene.spencer@ed.gov.

If you use a telecommunications device for the deaf (TDD) or a text telephone (TTY), call the Federal Relay Service (FRS), toll free, at 1-800-877-8339.

SUPPLEMENTARY INFORMATION: This notice of proposed priorities is in concert with NIDRR's currently approved Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training methods to facilitate the advancement of knowledge and understanding of the unique needs of traditionally underserved populations; (3) determine best strategies and programs to improve rehabilitation outcomes for underserved populations; (4) identify research gaps; (5) identify mechanisms for integrating research and practice; and (6) disseminate findings.

This notice proposes four priorities each of which NIDRR intends to use for one or more competitions in FY 2013 and possibly later years. However, nothing precludes NIDRR from publishing additional priorities, if needed. Furthermore, NIDRR is under no obligation to make an award using these priorities. The decision to make an award will be based on the quality of applications received and available funding.

Invitation To Comment: We invite you to submit comments regarding this notice. To ensure that your comments have maximum effect in developing the notice of final priorities, we urge you to identify clearly the specific topic that each comment addresses.

We invite you to assist us in complying with the specific requirements of Executive Orders 12866 and 13563 and their overall requirement of reducing regulatory burden that might result from these proposed priorities. Please let us know of any further ways we could reduce potential costs or increase potential benefits while preserving the effective and efficient administration of the program.

During and after the comment period, you may inspect all public comments about these proposed priorities in room 5133, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through advanced research, training, technical assistance, and dissemination activities in general problem areas, as specified by NIDRR. These activities are designed to benefit rehabilitation service providers, individuals with disabilities, and the family members or other authorized representatives of individuals with disabilities. Additional information on the RRTC program can be found at: www.ed.gov/rschstat/research/pubs/res-program.html#RRTC.

Program Authority: 29 U.S.C. 762(g) and 764(b)(2).

Applicable Program Regulations: 34 CFR part 350.

Proposed Priorities:

Background:

This notice contains four proposed priorities. Each priority reflects a major area or domain of NIDRR's research agenda (community living and participation, health and function, and employment), combined with a specific broad disability population (physical disability or intellectual and developmental disability).

Definitions:

The research that is proposed under these priorities must be focused on one or more stages of research. If the RRTC is to conduct research that can be categorized under more than one research stage, or research that progresses from one stage to another, those research stages must be clearly specified. For purposes of these priorities, the stages of research, which we published for comment on January 25, 2013, are:

(i) Exploration and Discovery means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration and discovery stage of research may also be used to inform decisions or priorities.

(ii) Intervention Development means the stage of research that focuses on generating and testing interventions that have the potential to improve outcomes for individuals with disabilities. Intervention development involves determining the active components of possible interventions, developing measures that would be required to illustrate outcomes, specifying target populations, conducting field tests, and assessing the feasibility of conducting a well-designed intervention study. Results from this stage of research may be used to inform the design of a study to test the efficacy of an intervention.

(iii) Intervention Efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications.

(iv) Scale-Up Evaluation means the stage of research during which a project analyzes whether an intervention is effective in producing improved outcomes for individuals with disabilities when implemented in a real-world setting. During this stage of research, a project tests the outcomes of an evidence-based intervention in different settings. The project examines the challenges to successful replication of the intervention, and the circumstances and activities that contribute to successful adoption of the intervention in real-world settings. This stage of research may also include well-designed studies of an intervention that has been widely adopted in practice, but that lacks a sufficient evidence-base to demonstrate its effectiveness.

Proposed Priority 1—RRTC on Community Living and Participation for Individuals with Physical Disabilities.

NIDRR seeks to fund an RRTC that will generate new knowledge about community living and participation for individuals with physical disabilities and will serve as a national resource center for individuals with physical disabilities and their families.

Of the 51.5 million American adults with a disability, 41.5 million have disabilities in the physical domain (Brault, 2012). Despite the U.S. Supreme Court's Olmstead decision, 527 U.S. 581 (1999), which required States to provide services “in the most integrated setting appropriate to the needs of qualified individuals with disabilities,” id. at 607, people with physical disabilities continue to encounter significant barriers to living in the community and participating in activities of their choice. These barriers contribute to economic disadvantage and social isolation (Reinhard et al., 2011). Barriers to community living and participation for people with physical disabilities manifest themselves at both the individual and environmental level. They include limited access to: Home and community-based long-term services and supports, such as personal assistance and family caregiving, assistive technologies and devices and environmental modifications, medication management, and information and referral. The barriers also include lack of access to affordable and accessible housing and insufficient transportation services (Reinhard et al., 2011).

In 2010, 8.09 million adults (3.66 million working-age adults ages 18 to 64 and 4.43 million adults 65 years and over) were estimated to need personal assistance from a family member, friend, or paid helper in order to live in the community due to difficulties in performing basic activities of daily living (ADL), such as bathing, dressing, toileting, and getting around in one's home (Center for Personal Assistance Services, 2012). By 2030, the number of adults projected to need personal assistance with ADLs is estimated to increase by as much as 50 percent (Center for Personal Assistance Services, 2012). While studies show that the home is the setting of choice for the vast majority of people with physical disabilities and older adults who need assistance with daily activities (Salomon, 2010), there is a growing disparity between the demand for and supply of caregivers who are available and trained to provide these services (PHI, 2008).

References:

Brault, M. W. (2012). Americans with Disabilities: 2010. Washington, DC: Department of Commerce, Economics and Statistics Administration, U.S. Census Bureau.

PHI. (2008). Occupational projections for direct-care workers 2006-2016, Facts 1. Bronx, NY: PHI (formerly the Paraprofessional Healthcare Institute). Available from: www.directcareclearinghouse.org/download/BLSfactSheet4-10-08.pdf.

Reinhard, S. C., Kassner, E., Houser, A., and Mollica, R. (September 2011). Raising expectations: A State scorecard on long-term services and supports for older adults, people with physical disabilities, and family caregivers. The AARP Foundation: Washington, DC. Available from: http://assets.aarp.org/rgcenter/ppi/ltc/ltss_scorecard.pdf.

Salomon, E. (March 2010). AARP Public Policy Institute: Housing policy solutions to support aging in place. Fact Sheet 172. Washington, DC: ARRP Center for Housing Policy. Available from: http://assets.aarp.org/rgcenter/ppi/liv-com/fs172-aging-in-place.pdf.

Center for Personal Assistance Services (2012). Projections for the Population Needing Personal Assistance, 2015-2030, U.S. Available from: www.pascenter.org/state_based_stats/disability_stats/adl_projections.php?state=us.

Proposed Priority:

The Assistant Secretary for Special Education and Rehabilitative Services proposes a priority for an RRTC on Community Living and Participation for Individuals with Physical Disabilities.

The RRTC must contribute to maximizing the community living and participation outcomes of individuals with physical disabilities by:

(a) Conducting research activities in one or more of the following priority areas, focusing on individuals with physical disabilities as a group or on individuals in specific disability or demographic subpopulations of individuals with physical disabilities:

(i) Technology to improve community living and participation outcomes for individuals with physical disabilities.

(ii) Individual and environmental factors associated with improved community living and participation outcomes for individuals with physical disabilities.

(iii) Interventions that contribute to improved community living and participation outcomes for individuals with physical disabilities. Interventions include any strategy, practice, program, policy, or tool that, when implemented as intended, contributes to improvements in outcomes for individuals with physical disabilities.

(iv) Effects of government practices, policies, and programs on community living and participation outcomes for individuals with physical disabilities.

(v) Practices and policies that contribute to improved community living and participation outcomes for transition-aged youth with physical disabilities.

(b) Focusing its research on one or more specific stages of research. If the RRTC is to conduct research that can be categorized under more than one of the research stages, or research that progresses from one stage to another, those stages must be clearly specified. These stages and their definitions are provided at the beginning of the Proposed Priorities section in this notice.

(c) Serving as a national resource center related to community living and participation for individuals with physical disabilities, their families, and other stakeholders by conducting knowledge translation activities that include, but are not limited to:

(i) Providing information and technical assistance to service providers, individuals with physical disabilities and their representatives, and other key stakeholders:

(ii) Providing training, including graduate, pre-service, and in-service training, to rehabilitation providers and other disability service providers, to facilitate more effective delivery of services to individuals with physical disabilities. This training may be provided through conferences, workshops, public education programs, in-service training programs, and similar activities:

(iii) Disseminating research-based information and materials related to community living and participation for individuals with physical disabilities; and

(iv) Involving key stakeholder groups in the activities conducted under paragraph (a) in order to maximize the relevance and usability of the new knowledge generated by the RRTC.

Proposed Priority 2—RRTC on Employment of Individuals with Physical Disabilities.

Background:

NIDRR seeks to fund an RRTC that will generate new knowledge about employment outcomes for individuals with physical disabilities and will serve as a national resource center for individuals with physical disabilities and their families. Despite the enactment of legislation and the implementation of a variety of policy and program efforts at the Federal and State levels to improve employment outcomes for individuals with disabilities, the employment rate for individuals with disabilities remains substantially lower than the rate for those without disabilities.

Of the 51.5 million American adults with a disability, 41.5 million have disabilities in the physical domain (Brault, 2012). Recent data from the Survey of Income and Program Participation revealed that 40.8 percent of individuals with only physical disabilities were employed, compared to 79.1 percent of individuals without a disability (Brault, 2012). Not only were people with physical disabilities much less likely to be employed, their median earnings were $1,998 per month as compared to $2,724 per month earned by people without a disability (Brault, 2012).

Previous research has demonstrated the importance of a variety of factors relevant to hiring, job retention, and advancement for individuals with physical disabilities. These include, but are not limited to, (1) individual factors such as disability characteristics, education, and age (Ottomanelli & Lind, 2009); (2) employer practices and organizational culture, including diversity management practices and the provision of accommodations such as assistive technology and personal assistance services (Chan et al., 2010; Colella & Bruyère, 2011; Nafukho et al., 2010; Ottomanelli & Lind, 2009; Stumbo et al., 2009); (3) government policies and programs, such as transportation systems, benefit programs, and the Americans with Disabilities Act (Colella & Bruyère, 2011; Ottomanelli & Lind, 2009); (4) programs for individuals in transition from school to work (Test et al., 2009); and (5) the effectiveness of vocational rehabilitation and other employment support practices (Marini et al., 2008; Ottomanelli & Lind, 2009).

References:

Brault, M. W. (2012). Americans with Disabilities: 2010. Household economic studies. U.S. Census Bureau. Available from: www.census.gov/prod/2012pubs/p70-131.pdf.

Chan, F., Strauser, D., Maher, P., Lee, E-J., Jones, R., and Johnson, E. T. (2010). Demand-side factors related to employment of people with disabilities: A survey of employers in the Midwest region of the United States. Journal of Occupational Rehabilitation, 20, 412-419.

Colella, A., and Bruyère, S. (2011). Disability and employment: New directions for industrial/organizational psychology. In American Psychological Association Handbook on Industrial Organizational Psychology, vol. 1, 473-503. Washington, DC: American Psychological Association.

Marini, I., Lee, G. K., Chan, F., Chapin, M. H., and Romero, M. G. (2008). Vocational rehabilitation service patterns related to successful competitive employment outcomes of persons with spinal cord injury. Journal of Vocational Rehabilitation, 28, 1-13.

Nafukho, F. M., Roessler, R. T., and Kacirek, K. (2010). Disability as a diversity factor: Implications for human resource practices. Advances in Developing Human Resources, 12, 395-406.

Ottomanelli, L., and Lind, L. (2009). Review of critical factors related to employment after spinal cord injury: Implications for research and vocational services. Journal of Spinal Cord Medicine, 32, 503-531.

Stumbo, N. J., Martin, J. K., and Hedric, B. N. (2009). Assistive technology: Impact on education, employment and independence of individuals with physical disabilities. Journal of Vocational Rehabilitation, 30, 99-110.

Test, D. W., Mazzotti, V. L., Mustian, A. L., Fowler, C. H., Kortering, L., and Kohler, P. (2009). Evidence-based secondary transition predictors for improving postschool outcomes for students with disabilities. Career Development for Exceptional Individuals, 32l, 160-181.

Proposed Priority:

The Assistant Secretary for Special Education and Rehabilitative Services proposes a priority for an RRTC on Employment of Individuals with Physical Disabilities.

The RRTC must contribute to maximizing the employment outcomes of individuals with physical disabilities by:

(a) Conducting research activities in one or more of the following priority areas, focusing on individuals with physical disabilities as a group or on individuals in specific disability or demographic subpopulations of individuals with physical disabilities:

(i) Technology to improve employment outcomes for individuals with physical disabilities.

(ii) Individual and environmental factors associated with improved employment outcomes for individuals with physical disabilities.

(iii) Interventions that contribute to improved employment outcomes for individuals with physical disabilities. Interventions include any strategy, practice, program, policy, or tool that, when implemented as intended, contributes to improvements in outcomes for individuals with physical disabilities.

(iv) Effects of government practices, policies and programs on employment outcomes for individuals with physical disabilities.

(v) Practices and policies that contribute to improved employment outcomes for transition-aged youth with physical disabilities.

(vi) Vocational rehabilitation (VR) practices that contribute to improved employment outcomes for individuals with physical disabilities.

(b) Focusing its research on one or more specific stages of research. If the RRTC is to conduct research that can be categorized under more than one of the research stages, or research that progresses from one stage to another, those stages must be clearly specified. These stages and their definitions are provided at the beginning of the Proposed Priorities section in this notice.

(c) Serving as a national resource center related to employment for individuals with physical disabilities, their families, and other stakeholders by conducting knowledge translation activities that include, but are not limited to:

(i) Providing information and technical assistance to service providers, individuals with physical disabilities and their representatives, and other key stakeholders.

(ii) Providing training, including graduate, pre-service, and in-service training, to rehabilitation providers and other disability service providers, to facilitate more effective delivery of employment services and supports to individuals with physical disabilities. This training may be provided through conferences, workshops, public education programs, in-service training programs, and similar activities.

(iii) Disseminating research-based information and materials related to employment for individuals with physical disabilities.

(iv) Involving key stakeholder groups in the activities conducted under paragraph (a) in order to maximize the relevance and usability of the new knowledge generated by the RRTC.

Proposed Priority 3—RRTC on Health and Function of Individuals with Intellectual and Developmental Disabilities.

Background:

NIDRR seeks to fund an RRTC that will generate new knowledge about health and function outcomes for persons with intellectual and developmental disabilities across the lifespan and will serve as a national resource center for persons with intellectual and developmental disabilities and their families. Intellectual and developmental disabilities are defined by limitations in adaptive functioning associated with intellectual or physical impairments first evident in childhood (Schalock et al., 2010; Developmental Disabilities Assistance and Bill of Rights Act of 2000). It has been estimated that about 1.6 percent of the U.S. population (about 5 million people) has intellectual and developmental disabilities (Larson et al., 2001).

Findings from research on the health of persons with intellectual and developmental disabilities in this country indicate substantially higher than normal rates of (1) complex health conditions; (2) poorly managed chronic conditions, such as diabetes, heart disease, sensory impairments, or epilepsy; (3) health problems and use of psychotropic medications; (4) limited access to and use of quality preventive health care and health promotion programs; and (5) early onset of conditions and impairments such as Alzheimer's disease among persons with Down syndrome (Horwitz et al., 2000; Krahn et al., 2006; National Task Group on Intellectual Disabilities and Dementia Practice, 2012).

While the health of the general population is routinely monitored through national surveys, the health of individuals with intellectual and developmental disabilities is not. As a result, significant health problems among the population may remain largely undetected (U.S. Department of Health and Human Services, 2002; Centers for Disease Control and Prevention, 2009). At the same time, it is clear that persons with intellectual and developmental disabilities have poorer health and function outcomes than the general population; have costs of health and related care that are disproportionately higher than for persons without intellectual and developmental disabilities; have insufficient access to and use of preventive health services; and have lifestyle and risk factors that are associated with poor health outcomes and premature mortality (Kaiser Commission on Medicaid and the Uninsured, 2006, 2011; Bershadsky et al., 2012; Krahn et al., 2006; Stancliffe et al., 2011; U.S. Department of Health and Human Services, 2002).

References:

Bershadsky, J., Taub, S., Engler, J., Moseley, C., Lakin, K. C, Stancliffe, R., Larson, S., Ticha, R., Bailey, C., and Bradley, V. (2012). Place of residence and preventive health care for intellectual and developmental disabilities services recipients in 20 states. Public Health Reports, 127(5), 475-485.

Centers for Disease Control and Prevention. (2009). U.S. Surveillance of Health of People with Intellectual Disabilities. A White Paper. Available from: www.cdc.gov/ncbddd/disabilityandhealth/pdf/209537-A_IDmeeting%20short%20version12-14-09.pdf.

Developmental Disabilities Assistance and Bill of Rights Act of 2000 (Pub. L. 106-402).

Horwitz, S., Kerker, B., Owens, P., and Zigler, E. (2000). The health status and needs of individuals with mental retardation. New Haven: Yale University.

Kaiser Commission on Medicaid and the Uninsured. (2006). Profiles of Medicaid's high cost populations. Menlo Park, CA: Kaiser Family Foundation. Available from: www.kff.org/medicaid/upload/7565.pdf.

Kaiser Commission on Medicaid and the Uninsured. (2011). Medicaid home and community-based service programs: Data update. Menlo Park, CA: Kaiser Family Foundation. Available from: www.kff.org/medicaid/upload/7720-04.pdf

Krahn, G. L., Hammond, L., and Turner, A. (2006). A cascade of disparities: Health and health care access for people with intellectual disabilities. Mental Retardation and Developmental Disabilities Research Reviews, 12, 22-27.

Larson, S. A., Lakin, K. C., Anderson, L., Lee, N. K., Lee, J. K., and Anderson, D. (2001). Prevalence of mental retardation and developmental disabilities: Estimates from the 1994/1995 National Health Interview Survey Disability Supplements. American Journal on Mental Retardation, 106(3), 231-252.

National Task Group on Intellectual Disabilities and Dementia Practice. (2012). “My thinker's not working”: A national strategy for enabling adults with intellectual disabilities affected by dementia to remain in their community and receive quality supports. Available from: www.aadmd.org/ntg/thinker.

Schalock, R. L., Borthwick-Duffy, S. A., Bradley, V. J., Buntinx, W. H. E., Coulter, D. L., Craig, E. M., Gomez, S. C., Lachapelle, Y., Luckasson, R., Reeve, A., Shogren, K. A., Snell, M. E., Spreat, S., Tasse, M. J., Thompson, J. R., Verdugo-Alonso, M. A., Wehmeyer, M. L., and Yeager, M. H. (2010). Intellectual disability: Definition, classification, and systems of supports (11th ed.). Washington, DC: American Association on Intellectual and Developmental Disabilities.

Stancliffe, R., Lakin, K. C., Larson, S., Taub, S., Engler, J., Bershadsky, J., and Fortune, J., (2011). Overweight and obesity among adults with intellectual disabilities who use intellectual disability/developmental disability services in 20 U.S. States. American Journal on Intellectual and Developmental Disabilities, 116(6), 401-418.

U.S. Department of Health and Human Services. (2002). Closing the gap: A national blueprint to improve the health of persons with mental retardation. Report of the Surgeon General's Conference on Health Disparities and Mental Retardation. Washington, DC: U.S. Department of Health and Human Services, Office of the Surgeon General.

Proposed Priority

The Assistant Secretary for Special Education and Rehabilitative Services proposes a priority for an RRTC on Health and Function of Individuals with Intellectual and Developmental Disabilities.

The RRTC must contribute to maximizing the health and function outcomes of individuals with intellectual and/or developmental disabilities by:

(a) Conducting research activities in one or more of the following priority areas, focusing on individuals with intellectual and developmental disabilities as a group or on individuals in specific disability or demographic subpopulations of individuals with intellectual and developmental disabilities:

(i) Technology to improve health and function outcomes for individuals with intellectual and developmental disabilities.

(ii) Individual and environmental factors associated with improved access to rehabilitation and health care and improved health and function outcomes for individuals with intellectual and developmental disabilities.

(iii) Interventions that contribute to improved health and function outcomes for individuals with intellectual and developmental disabilities. Interventions include any strategy, practice, program, policy, or tool that, when implemented as intended, contributes to improvements in outcomes for the specified population.

(iv) Effects of government practices, policies and programs on health care access and on health and function outcomes for individuals with intellectual and developmental disabilities.

(v) Practices and policies that contribute to improved health and function outcomes for transition-aged youth with intellectual and developmental disabilities.

(b) Focusing its research on one or more specific stages of research. If the RRTC is to conduct research that can be categorized under more than one of the research stages, or research that progresses from one stage to another, those stages must be clearly specified. These stages and their definitions are provided at the beginning of the Proposed Priorities section in this notice.

(c) Serving as a national resource center related to health and function for individuals with intellectual and developmental disabilities, their families, and other stakeholders by conducting knowledge translation activities that include, but are not limited to:

(i) Providing information and technical assistance to service providers, individuals with intellectual and developmental disabilities and their representatives, and other key stakeholders.

(ii) Providing training, including graduate, pre-service, and in-service training, to rehabilitation providers and other disability service providers, to facilitate more effective delivery of services to individuals with intellectual and developmental disabilities. This training may be provided through conferences, workshops, public education programs, in-service training programs, and similar activities.

(iii) Disseminating research-based information and materials related to health and function for individuals with intellectual and developmental disabilities.

(iv) Involving key stakeholder groups in the activities conducted under paragraph (a) in order to maximize the relevance and usability of the new knowledge generated by the RRTC.

Proposed Priority 4—RRTC on Community Living and Participation for Individuals with Intellectual and Developmental Disabilities.

Background:

NIDRR seeks to fund an RRTC that will generate new knowledge about community living and participation outcomes for individuals with intellectual and developmental disabilities and will serve as a national resource center on community living and participation for individuals with intellectual and developmental disabilities and their families. Intellectual and developmental disabilities are defined by limitations in adaptive functioning associated with substantial intellectual or physical impairments first evident in childhood (Schalock et al., 2010; Developmental Disabilities Assistance and Bill of Rights Act of 2000. It has been estimated that about 1.6 percent of the U.S. population (about 5 million people) has intellectual and developmental disabilities (Larson et al., 2001).

There have been significant changes in the nature of services provided to individuals with intellectual and developmental disability over the last four decades. Since the late 1960s, public institution placements of individuals with intellectual and developmental disabilities have decreased by more than 85 percent (Larson et al., 2012). Individuals with intellectual and developmental disabilities currently receive a wide range of community services. These include personal care and other residential support; physical, occupational, speech, and other therapies; vocational rehabilitation and other employment supports; and respite care and other assistance to family caregivers. These services are financed primarily through various Medicaid programs, including Medicaid Home and Community Based Services. Demand for these services outweighs supply. There are long waiting lists, estimated to include 120,000 to 300,000 persons nationally, depending on the definition of “persons waiting” (Larson et al., 2012; Kaiser Family Foundation, 2009). In the past decade, most of the growth in service recipients has come from persons living with family members (Larson et al., 2012).

Research on outcomes for persons receiving community-based supports, while consistently showing better outcomes than for persons receiving institutional care (Stancliffe & Lakin, 2005), shows that persons with intellectual and developmental disabilities receiving community-based supports have less choice, less participation, fewer relationships, and more loneliness than persons who do not have intellectual and developmental disabilities (Stancliffe et al., 2007; McVilly et al., 2006). Another major challenge relates to providing appropriate support of all kinds, including ensuring availability of well-trained direct support workers, for the steadily growing number of individuals with intellectual and developmental disabilities who continue to live with family members into adulthood.

References:

Developmental Disabilities Assistance and Bill of Rights Act of 2000 (Pub. L. 106-402).

Kaiser Family Foundation. (2009). Medicaid home and community-based services: Data update. Washington, DC: Kaiser Commission on Medicaid and the Uninsured.

Larson, S.A., Lakin, K.C., Anderson, L., Lee, N.K., Lee, J.K., and Anderson, D. (2001). Prevalence of mental retardation and developmental disabilities: Estimates from the 1994/1995 National Health Interview Survey Disability Supplements. American Journal on Mental Retardation, 106(3), 231-252.

Larson, S.A., Ryan, A., Salmi, P., Smith, D., and Wuorio, A. (2012). Residential service for persons with developmental disabilities: Status and trends through 2010. Minneapolis: University of Minnesota, Research and Training Center on Community Living.

McVilly, K.R., Stancliffe, R.J., Parmenter, T.R., and Burton-Smith, R.M. (2006). “I get by with a little help from my friends”: Adults with intellectual disability discuss loneliness. Journal of Applied Research in Intellectual Disabilities, 19(2), 191-203.

Schalock, R.L., Borthwick-Duffy, S.A., Bradley, V.J., Buntinx, W.H.E., Coulter, D.L., Craig, E.M., Gomez, S.C., Lachapelle, Y., Luckasson, R., Reeve, A., Shogren, K.A., Snell, M.E., Spreat, S., Tasse, M.J., Thompson, J.R., Verdugo-Alonso, M.A., Wehmeyer, M.L., and Yeager, M.H. (2010). Intellectual disability: Definition, classification, and systems of supports (11th ed.). Washington, DC: American Association on Intellectual and Developmental Disabilities.

Stancliffe, R.J., and Lakin, C.K. (2005). Costs and outcomes of community services for people with intellectual disabilities. Baltimore, MD: Paul H. Brookes Publishing.

Stancliffe, R.J., Lakin, C.K., Doljanac, R., Byun, S.Y., Taub, S., Chiri, G., and Ferguson, P. (2007). Loneliness and living arrangements. Intellectual and Developmental Disabilities, 45(6), 380-390.

Proposed Priority:

The Assistant Secretary for Special Education and Rehabilitative Services proposes a priority for an RRTC on Community Living and Participation for Individuals with Intellectual and Developmental Disabilities.

The RRTC must contribute to improving the community living and participation outcomes of individuals with intellectual and developmental disabilities by:

(a) Conducting research activities in one or more of the following priority areas, focusing on individuals with intellectual and developmental disabilities as a group or on individuals in specific disability or demographic subpopulations of individuals with intellectual and developmental disabilities:

(i) Technology to improve community living and participation outcomes for individuals with intellectual and developmental disabilities.

(ii) Individual and environmental factors associated with improved community living and participation outcomes for individuals with intellectual and developmental disabilities.

(iii) Interventions that contribute to improved community living and participation outcomes for individuals with intellectual and developmental disabilities. Interventions include any strategy, practice, program, policy, or tool that, when implemented as intended, contributes to improvements in outcomes for individuals with disabilities.

(iv) Effects of government practices, policies and programs on community living and participation outcomes for individuals with intellectual and developmental disabilities.

(v) Practices and policies that contribute to improved community living and participation outcomes for transition-aged youth with intellectual and developmental disabilities.

(b) Focusing its research on one or more specific stages of research. If the RRTC is to conduct research that can be categorized under more than one of the research stages, or research that progresses from one stage to another, those stages must be clearly specified. These stages and their definitions are provided at the beginning of the Proposed Priorities section in this notice.

(c) Serving as a national resource center related to community living and participation for individuals with intellectual and developmental disabilities, their families, and other stakeholders by conducting knowledge translation activities that include, but are not limited to:

(i) Providing information and technical assistance to service providers, individuals with intellectual and developmental disabilities and their representatives, and other key stakeholders.

(ii) Providing training, including graduate, pre-service, and in-service training, to rehabilitation providers and other disability service providers, to facilitate more effective delivery of services to individuals with intellectual and developmental disabilities. This training may be provided through conferences, workshops, public education programs, in-service training programs, and similar activities.

(iii) Disseminating research-based information and materials related to community living and participation for individuals with intellectual and developmental disabilities.

(iv) Involving key stakeholder groups in the activities conducted under paragraph (a) in order to maximize the relevance and usability of the new knowledge generated by the RRTC.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities only upon a reasoned determination that their benefits would justify their costs. In choosing among alternative regulatory approaches, we selected those approaches that would maximize net benefits. Based on the analysis that follows, the Department believes that these proposed priorities are consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to the RRTCs have been completed successfully, and the proposed priorities will generate new knowledge through research. The new RRTCs will generate, disseminate, and promote the use of new information that would improve outcomes for individuals with disabilities in the areas of community living and participation, employment, and health and function.

Intergovernmental Review: This program is not subject to Executive Order 12372 and the regulations in 34 CFR part 79.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 7, 2013.
Michael Yudin,
Acting Assistant Secretary for Special Education and Rehabilitative Services.

[FR Doc. 2013-03203 Filed 2-11-13; 8:45 am]

BILLING CODE 4000-01-P